DEPARTMENT OF ENERGY

Methane Hydrate Advisory Committee

AGENCY: Department of Energy, Office of Fossil Energy.

ACTION: Notice of open meeting.

SUMMARY: This notice announces a meeting of the Methane Hydrate Advisory Committee. Federal Advisory Committee Act (Pub. L. 92-463, 86 Stat. 770) requires that notice of these meetings be announced in the Federal Register.

DATES: Thursday, January 28, 2010, 8:30 a.m. to 5 p.m. Friday, January 29, 2010, 8 a.m. to 3 p.m.

ADDRESSES: School of Civil and Environmental Engineering, Sustainable Education Building, Room SEB#122, Georgia Institute of Technology, 790 Atlantic Drive, Atlanta, GA 30332-0355.

FOR FURTHER INFORMATION CONTACT: Edith Allison, U.S. Department of Energy, Office of Oil and Natural Gas, Washington, DC 20585. Phone: 202-586-1023.

SUPPLEMENTARY INFORMATION: Purpose of the Committee: The purpose of the Methane Hydrate Advisory Committee is to provide advice on potential applications of methane hydrate to the Secretary of Energy, and assist in developing recommendations and priorities for the Department of Energy Methane Hydrate Research and Development Program.

Tentative Agenda

Thursday, January 28, 2010

8:30 a.m. Registration

9 a.m. Welcome and Introductions

9:15 a.m. Report from Representative Group of Committee Members on meeting with Secretary Chu

9:45 a.m. Report on DOE Budget and Strategy for Field Testing

10:15 a.m. Break

10:30 a.m. Report and Discussion of Gulf of Mexico Joint Industry Project 2009 Expedition

11:30 a.m. Report and Discussion of ConocoPhillips Alaska North Slope CO2 Injection Project

12:30 p.m. Working Lunch

1:45 p.m. Status Report on BP Alaska North Slope Proposed Production Test

2:15 p.m. Report and Discussion: Modeling Hydrate in the Global Climate Cycle

3 p.m. Break

3:30 p.m. Report on Post-Doctoral Fellowship and Laboratory R&D

4 p.m. Report on Beaufort Sea 2009 Expedition

4:30 p.m. Report on Gas Production from Hydrate Bearing Sediments: Geomechanical Implications

5 p.m. Adjourn for the day

Friday, January 29, 2010

8 a.m. Registration

8:30 a.m. Report and Discussion on National Research Council (NRC) Assessment and 2010 Report to Congress

10 a.m. Break

10:15 a.m. Continue Discussion of NRC Report

11 a.m. Discussion and Preparation of Recommendations to DOE

12 p.m. Working Lunch

1 p.m. Continue Preparation of Recommendations to DOE

3 p.m. Wrap up—Adjourn

Public Participation: The meeting is open to the public. The Chairman of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, Room 1G-033, Forrestal Building, 1000 Independence Avenue, SW., Washington, DC, between 9 a.m. and 4 p.m., Monday through Friday, except Federal holidays.

Issued at Washington, DC, on December 23, 2009.
Rachel Samuel,
Deputy Committee Management Officer.

[FR Doc. E9-30959 Filed 12-29-09; 8:45 am]

BILLING CODE 6450-01-P